DEPARTMENT OF HEALTH AND HUMAN SERVICES

Centers for Medicare & Medicaid Services

[Document Identifier CMS-10421]

Agency Information Collection Activities: Proposed Collection; Comment Request

Correction

In notice document 2012-2821 appearing on pages 6123-6124 in the issue of February 7, 2012, make the following correction:

On page 6124, in the first column, in the last line, “April 9, 2012” should read “April 3, 2012”.

[FR Doc. C1-2012-2821 Filed 2-13-12; 8:45 am]

BILLING CODE 1505-01-D